POSTAL REGULATORY COMMISSION

[Docket No. CP2013-1; Order No. 1659]

New Postal Product; Negotiated Service Agreement

AGENCY: Postal Regulatory Commission.

ACTION: Notice.

SUMMARY: The Commission is noticing a recent Postal Service filing concerning an amendment to the existing Express Mail & Priority Mail Contract 11 Negotiated Service Agreement. This notice informs the public of the filing, invites public comment, and takes other administrative steps.

DATES: Comments are due: February 21, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Contents of Filing

III. Ordering Paragraphs

I. Introduction

On February 13, 2013, the Postal Service filed notice that it has agreed to an amendment to the existing Express Mail & Priority Mail Contract 11 subject to this docket.¹ The Postal Service includes one attachment in support of its Notice:

¹ Notice of United States Postal Service of Amendment to Express Mail & Priority Mail Contract 11, With Portions Filed Under Seal, February 13, 2013 (Notice).

• Attachment A—a redacted copy of the amendment to the existing Express Mail & Priority Mail Contract 11.

The Postal Service also filed the unredacted amendment under seal. It asserts that the “supporting financial documentation and financial certification initially provided in this docket remain applicable.” Id. at 1. It also seeks to incorporate by reference the Application for Non-Public Treatment originally filed in this docket for the protection of customer-identifying information that it has filed under seal. Id.

The amendment changes the definition of the term “Contract Quarters” to provide that the first contract quarter begins on October 1 rather than July 1. Id. Attachment A at 1. The Postal Service intends for the amendment to become effective on the day after the date that the Commission completes its review of the Notice. Id.

II. Notice of Filings

Interested persons may submit comments on whether the changes presented in the Postal Service's Notice are consistent with the policies of 39 U.S.C. 3632, 3633, or 3642, 39 CFR 3015.5, and 39 CFR part 3020, subpart B. Comments are due no later than February 21, 2013. The public portions of these filings can be accessed via the Commission's Web site (http://www.prc.gov).

The Commission appoints Lawrence E. Fenster to serve as Public Representative in this docket.

III. Ordering Paragraphs

It is ordered:

1. The Commission shall review the Notice of United States Postal Service of Amendment to Express Mail & Priority Mail Contract 11 with Portions Filed Under Seal, filed on February 13, 2013 in Docket No. CP2013-1.

2. Pursuant to 39 U.S.C. 505, Lawrence E. Fenster is appointed to serve as an officer of the Commission (Public Representative) to represent the interests of the general public in this proceeding.

3. Comments by interested persons in these proceedings are due no later than February 21, 2013.

4. The Secretary shall arrange for publication of this order in the Federal Register.

By the Commission.
Ruth Ann Abrams,
Acting Secretary.

[FR Doc. 2013-03900 Filed 2-20-13; 8:45 am]

BILLING CODE 7710-FW-P